DEPARTMENT OF TRANSPORTATION

Federal Motor Carrier Safety Administration

49 CFR Part 393

[DOT Docket No. FMCSA-02-13589]

RIN 2126-AA80

Parts and Accessories Necessary for Safe Operation; Fuel Systems

AGENCY: Federal Motor Carrier Safety Administration (FMCSA), DOT.

ACTION: Final rule.

SUMMARY: The FMCSA revises the requirements concerning fuel tank fill rates for gasoline- and methanol-fueled light-duty vehicles contained in Subpart E of the Federal Motor Carrier Safety Regulations (FMCSRs). The purpose of the rule is to: Remove a conflict between the fuel tank fill rate requirements of the FMCSRs and those of the Environmental Protection Agency for gasoline and methanol-fueled vehicles up to 14,000 pounds (lbs) Gross Vehicle Weight Rating (GVWR); and to make permanent the terms of the exemptions previously granted to motor carriers operating certain gasoline-fueled commercial motor vehicles (CMVs) manufactured by Ford Motor Company (Ford) and by General Motors (GM). The FMCSA also incorporates into the FMCSRs previously issued regulatory guidance concerning the applicability of the agency's fuel tank rules to vehicles subject to the National Highway Traffic Safety Administration (NHTSA) fuel system integrity standard at the time of manufacture.

DATES: This rule is effective July 6, 2004.

FOR FURTHER INFORMATION CONTACT: Ms. Deborah M. Freund, Office of Bus and Truck Standards and Operations, (202) 366-4009, Federal Motor Carrier Safety Administration, 400 Seventh Street, SW., Washington, DC 20590-0001. Office hours are from 7:45 a.m. to 4:15 p.m., e.t., Monday through Friday, except Federal holidays.

SUPPLEMENTARY INFORMATION:

Background

Section 393.67(c)(7)(ii) of Title 49, Code of Federal Regulations (CFR), requires the fill pipe and vents of a CMV with a fuel tank of more than 25 gallons capacity to permit the tank to be filled at a rate of at least 20 gallons per minute (gpm) without fuel spillage. Section 393.67(f)(2) and (f)(3) require that liquid fuel tanks be marked with the manufacturer's name and display a certification label that the tank conforms to all applicable rules in § 393.67.

Ford and GM Requests for Exemption

Ford and GM manufacture gasoline-fueled vehicles that are based on a “light-truck” platform. The load- or passenger-carrying capabilities of these vehicles place them within the weight-or passenger-carrying thresholds of the FMCSRs. The fuel tanks of these vehicles are mounted between the frame rails and the fill pipe system is routed to minimize its exposure in the event of a crash. Because of the design characteristics of the fuel fill-pipe and system and the vapor generated when filling such tanks with gasoline, Ford and GM found that the fuel systems in the gasoline versions of these light-duty vehicles could not meet the FMCSA requirement for the 20 gallon per minute fill rate, and thus also could not display the required certification label. Both companies filed applications for limited exemptions from these fuel system requirements in 1999.

On August 10, 1999, the FMCSA (then, part of the Federal Highway Administration), published a Notice of Intent to grant Ford's application for exemption (64 FR 43417). The agency granted Ford's request on December 20, 1999 (64 FR 71184). In that notice (at 71185), the agency noted that the 20 gallon per minute rate, while appropriate for diesel fuel-powered vehicles, mandates that fill pipes on gasoline-powered vehicles be capable of receiving fuel at twice the maximum rate gasoline pumps are allowed to dispense fuel.

The FMCSA published a notice of intent on November 2, 2001 (66 FR 55727), to renew Ford's exemption and renewed it on December 27, 2001 (66 FR 66970). On the same day, FMCSA published a Notice of Intent to extend the exemption to additional Ford vehicles of similar design (66 FR 66971). The agency granted that exemption on March 27, 2002 (67 FR 14765).

The chronology for the GM vehicles was similar. On December 20, 1999, the FMCSA published a Notice of Intent to grant GM's application for exemption (64 FR 71186). The agency granted GM's petition on April 26, 2000 (65 FR 24531). The FMCSA published a notice of intent to renew the exemption on December 27, 2001 (66 FR 66972). It was renewed on March 27, 2002 (67 FR 14764).

Related EPA Regulations

Between 1993 and 2000, the EPA issued four final rules under Title 40 of the CFR relevant to the fuel-tank fill rate issue. They address the reduction of emissions from vehicle fueling, through controls on the dispensing rate of gasoline and methanol pumps. This involves the rate at which gasoline and methanol fuels can be accepted into the tanks of certain vehicles, the ability of the vehicle fuel systems to safely handle vapors released during fueling, and the ability of the fuel systems to safely prevent any spitback of fuel during the fueling process. In brief, these rules set a maximum dispensing rate of 10 gallons (37.9 liters) per minute (gpm) for most gasoline and methanol pumps, require a fuel-dispensing spitback test for certain 1996 and later model year light-duty vehicles and engines, and specify requirements for controlling vehicle refueling emissions through the use of vehicle-based systems (that is, on-board vapor recovery (ORVR) systems). The changes in the EPA regulation created an inconsistency between the fuel tank fill rate requirements of FMCSA and those of the EPA.

The EPA's requirements on fuel-dispensing rates for gasoline and methanol pumps are meant to ensure that while vehicles are being fueled, they would not experience spitback as the result of being fueled at rates higher than their fuel system designs can accommodate. The 10 gpm maximum fuel-dispensing rate is an inherent design parameter for vehicles designed to meet ORVR emission standards. If they were to be refueled at dispensing rates above 10 gpm, they would likely exceed ORVR emissions standards because the vehicle's carbon canister is not designed to adsorb hydrocarbon vapors satisfactorily at these higher dispensing rates. In contrast, the FMCSRs require these vehicles to be capable of receiving fuel at twice the maximum rate that these pumps are allowed to dispense fuel by EPA regulations. The FMCSA believes that the other existing regulatory requirements, including a restricted fuel-pump dispensing rate, fuel fill rate for many (if not most) of these light-duty vehicles and light-duty trucks, plus required spitback and on-board refueling tests adequately address the safety of fueling these vehicles.

FMVSS 301 Requirements

In addition to the revision to the fuel tank fill rate requirements, FMCSA proposed to place in the FMCSRs previously published FMCSA regulatory guidance concerning the applicability of Federal Motor Vehicle Safety Standard (FMVSS) 301 (Fuel System Integrity) to CMVs that have a Gross Vehicle Weight Rating (GVWR) of 10,000 lbs or less. In addition to the concern raised about the Ford and GM vehicles, there is another family of vehicles that fall under the definition of CMV: passenger vehicles designed or used to transport between 9 and 15 passengers (including the driver), in interstate commerce, and similar vehicles carrying placardable amounts of hazardous materials. The existing regulatory guidance, published on April 4, 1997 (65 FR 16369, at 16417), states that FMVSS 301 adequately addresses the fuel systems of such placarded motor vehicles with a GVWR of less than 10,001 pounds, and that compliance with Subpart E of part 393 would be redundant. However, commercial motor vehicles that are not covered by FMVSS 301 must continue to comply with Subpart E of Part 393. Thus, motor vehicles that meet the fuel system integrity requirements of 49 CFR 571.301 would be exempt from the requirements of FMCSA Subpart E of Part 393.

Discussion of Comments

FMCSA published a Notice of Proposed Rulemaking (NPRM) on November 12, 2003 (68 FR 64072). Two organizations provided comments to the docket.

The National Automobile Dealers Association supported the proposal, particularly the reference to the FMVSS 301 requirements.

Ford Motor Company requested FMCSA consider a simplified reference to the Ford vehicles that would be covered by the exemption. Ford vehicles with a GVWR over 10,000 pounds are all identified with the letters A, K, L, M, N, W, or X in the fourth position of the Vehicle Identification Number (VIN). Ford suggested that specifying the identification in this way would also be consistent with the method of identification proposed for the exempted GM vehicles. Ford also asked FMCSA to revise the text of the proposed rule to indicate that vehicles exempted under the fuel tank fill rate requirement of § 393.67(f) are not required to bear the label required under § 393.67(f)(1) through § 393.67(f)(3), and also to clarify that the exemption applies to vehicles manufactured before and after the effective date of the proposed rule.

FMCSA Response

In the NPRM, FMCSA had used the identifications provided by Ford in its requests for exemption. FMCSA will revise the identification method in § 393.67(f)(4) as Ford has recommended.

Concerning Ford's comment on the labeling requirements, the revision to § 393.67(a)(7) states that motor vehicles that meet the fuel system integrity requirements of FMVSS 301 are exempt from the requirements of Subpart E of the FMCSRs—that is, §§ 393.65 through 393.69—as they apply to the vehicle's fueling system. The general reference to 49 CFR 571.301 covers compliant gasoline-fueled vehicles built after the effective date of the final rule. Because a regulation can only apply prospectively, it is necessary to identify those vehicles that were previously exempted from the fuel tank certification and marking requirements.

Rulemaking Analyses And Notices

Regulatory Notices

Privacy Act: Anyone is able to search the electronic form of all comments received into any of our dockets by the name of the individual submitting the comment (or signing the comment, if submitted on behalf of an association, business, labor union, etc.) You may review DOT's complete Privacy Act Statement in the Federal Register published on April 11, 2000 (Volume 65, Number 70; Pages 19477-78) or you may visit http://dms.dot.gov.

Executive Order 12866 (Regulatory Planning and Review) and DOT Regulatory Policies and Procedures

The FMCSA has determined that this regulatory action is not significant within the meaning of Executive Order 12866 and under the regulatory policies and procedures of the DOT.

This rule would revise the regulations concerning the fuel systems of certain light-duty vehicles used as CMVs. First, it excludes certain light-duty vehicles that are required to comply with the FMVSS 301 fuel system integrity requirements, from FMCSR fuel system integrity requirements. Second, it revises the requirements of § 393.67, Fill pipe, to bring them into conformity with EPA regulations. The FMCSA believes these changes will simplify motor carriers' ability to comply with the FMCSRs, and would not diminish the safe operation of these vehicles.

Based on the information presented here, FMCSA anticipates that this rulemaking will have minimal economic impact on the interstate motor carrier industry. Unless a motor carrier operates pumps that are used exclusively to fuel heavy-duty vehicles, motor carriers have been required to comply with the limitation on fueling rate since January 1, 1998.

Under provisions of The National Traffic and Motor Vehicle Safety Act (“Vehicle Safety Act”) (49 U.S.C. 30101, et seq., codified at 49 U.S.C. 30112) and NHTSA's implementing regulations, vehicles must be certified to meet all applicable FMVSSs at the time of their manufacture. Since the fuel systems of vehicles 10,000 lbs GVWR or less are required to comply with FMVSS 301, there is no need for the FMCSA to require a separate fuel certification label on the fuel tanks of these vehicles.

This rulemaking imposes no requirements that would generate new costs for motor carriers. Those entities would see no change to their operations, provided they ensure that their CMVs with GVWRs of up to 10,000 pounds already comply with FMVSS 301, and their gasoline- and methanol-fueled CMVs comply with the applicable EPA regulations. This rulemaking will also harmonize the fuel system integrity requirements of FMCSA with those of the NHTSA and the EPA.

Regulatory Flexibility Act

In compliance with the Regulatory Flexibility Act (5 U.S.C. 601-612) the FMCSA has evaluated the effects of this rule on small entities. Motor carriers will not be subject to any new requirements under this proposal. Generally, they only have access to vehicles that comply with the FMVSSs and the EPA requirements. As a result, motor carriers may incur only minimal new costs, considerably less than the guideline of $100 million or more in any one year.

Therefore, the FMCSA has determined that this regulatory action would not have a significant economic impact on a substantial number of small entities.

Executive Order 12988 (Civil Justice Reform)

This action meets applicable standards in sections 3(a) and 3(b)(2) of Executive Order 12988, Civil Justice Reform, to minimize litigation, eliminate ambiguity, and reduce burden.

Executive Order 13045 (Protection of Children)

Executive Order 13045, “Protection of Children from Environmental Health Risks and Safety Risks” (April 23, 1997, 62 FR 19885), requires that agencies issuing “economically significant” rules that concern an environmental health or safety risk that an agency has reason to believe may disproportionately affect children must include an evaluation of the environmental health and safety effects of the regulation on children. Section 5 of Executive Order 13045 directs an agency to submit for a “covered regulatory action” an evaluation of its environmental health or safety effects on children.

The agency has determined that this rule is not a “covered regulatory action” as defined under Executive Order 13045. First, this final rule is not economically significant under Executive Order 12866. Second, the agency has no reason to believe that the rule will result in an environmental health risk or safety risk that would disproportionately affect children. The vehicles that are the subject of this rulemaking are required to comply with both NHTSA and EPA standards concerning fuel system integrity and fuel tank fill rate. The agency has determined that the rule would have no significant environmental impacts.

Executive Order 12630 (Taking of Private Property)

This rule will revise the FMCSRs concerning fuel system integrity and fuel tank fill rate, as they apply to gasoline-fueled CMVs, to bring them into conformance with current NHTSA and EPA regulations. It will also make permanent the exemptions previously granted at the request of Ford and GM.

No new action is required on the part of those motor carriers that currently operate or plan to operate on U.S. highways, because these vehicles are already required to comply with the NHTSA and EPA requirements referenced in this final rule. In accordance with the provisions of the final rule, motor carriers operating vehicles on or after that rule's effective date, in compliance with the NHTSA and EPA requirements will no longer need to apply for an exemption.

The FMCSA therefore has determined that this final rule has no taking implications under the Fifth Amendment or Executive Order 12630, Governmental Actions and Interference with Constitutionally Protected Property Rights.

Executive Order 13132 (Federalism)

This action has been analyzed in accordance with the principles and criteria contained in Executive Order 13132, dated August 4, 1999. The FMCSA has determined this final rule does not have a substantial direct effect on, or sufficient federalism implications for, the States, nor would it limit the policymaking discretion of the States.

These changes to the FMCSRs would not directly preempt any State law or regulation. They will not impose additional costs or burdens on the States. Although the States are required to adopt part 393 as a condition for receiving Motor Carrier Safety Assistance Program grants, the additional training and orientation that would be required for roadside enforcement officials will be minimal, and it would be covered under the existing grant program. Also, this action will not have a significant effect on the States' ability to execute traditional State governmental functions.

Executive Order 12372 (Intergovernmental Review)

Catalog of Federal Domestic Assistance Program Number 20.217, Motor Carrier Safety. The regulations implementing Executive Order 12372 regarding intergovernmental consultation on Federal programs and activities do not apply to this program.

Paperwork Reduction Act

This action will not involve an information collection that is subject to the requirements of the Paperwork Reduction Act of 1995, 44 U.S.C. 3501-3520.

National Environmental Policy Act

The agency analyzed this final rule for the purpose of the National Environmental Policy Act of 1969 (42 U.S.C. 4321 et seq.) and our environmental procedures Order 5610.1C (published in the March 1, 2004 Federal Register at 69 FR 9680 with an effective date of March 30, 2004). We have determined that an Environmental Impact Statement is not necessary based upon the information contained in the Environmental Assessment (EA). That determination is reflected in the Finding of No Significant Impact (FONSI). A copy of the EA and the FONSI are contained in the public docket.

We have also analyzed this rule under the Clean Air Act, as amended (CAA) section 176(c), (42 U.S.C. 7401 et seq.) and implementing regulations promulgated by the Environmental Protection Agency. Approval of this action is exempt from the CAA's General Conformity requirement since it involves policy development and civil enforcement activities, such as, investigations, inspections, examinations, and the training of law enforcement personnel. See 40 CFR 93.153(c)(2). It will not result in any emissions increase nor will it have any potential to result in emissions that are above the general conformity rule's de minimis threshold levels. Moreover, it is reasonably foreseeable that the rule change will not increase total CMV mileage, change the routing of CMVs, how CMVs operate, or the CMV fleet-mix of motor carriers.

This action involves: (1) A revision of the FMCSR CMV fuel fill rate requirements to align them with those of the EPA for gasoline and methanol-fueled vehicles up to 14,000 lbs GVWR; (2) making permanent the terms of the exemptions previously granted to motor carriers operating certain gasoline-fueled CMVs manufactured by Ford and by GM; and (3) incorporating into the FMCSRs previously issued regulatory guidance concerning the applicability of the agency's fuel tank rules to vehicles subject to the NHTSA fuel system integrity standard at the time of manufacture.

The revision to the FMCSRs will not cause a change in EPA regulations, nor will it require a change in the design, operation, or fueling of these vehicles. It simply acknowledges the existence of a different set of fuel fill-rate regulations for gasoline- and methanol-fueled vehicles, promulgated by the EPA to improve air quality by reducing vapor emissions from refueling, which were not considered at the time the fuel tank fill rate provision was added to the FMCSRs in 1952. The rule will also make permanent the exemptions previously granted to motor carriers operating certain gasoline-fueled CMVs manufactured by Ford and GM which comply with the EPA regulations applicable to them. Finally, the rule explicitly acknowledges these vehicles' compliance with FMVSS 301, thus eliminating redundancy with NHTSA regulations.

Energy Effects

We have analyzed this rule under Executive Order 13211, Actions Concerning Regulations that Significantly Affect Energy Supply, Distribution, or Use. We have determined that it is not a “significant energy action” under that order because it is not likely to have a significant adverse effect on the supply, distribution, or use of energy. It revises the regulations concerning fuel system integrity and fuel tank fill rate, as they apply to gasoline-fueled CMVs, for consistency with current NHTSA and EPA regulations. It has no direct relation to energy consumption. The Administrator of the Office of Information and Regulatory Affairs has not designated it as a significant energy action. Therefore, it does not require a Statement of Energy Effects under Executive Order 13211.

Unfunded Mandates

This rule does not impose a Federal mandate resulting in the expenditure by State, local, or tribal governments, in the aggregate, or by the private sector, of $100 million or more in any one year (2 U.S.C. 1531 et seq.). The FMCSA merely implements a regulation that is inherently a design requirement for the vehicle and does not lend itself to roadside verification. Persons performing inspections at the roadside will probably receive orientation on this final rule as part of their regular in-service training. However, they will not be trained, equipped, or expected to check fuel tank fill rates at the roadside. Also, since the FMCSA is codifying an existing exemption that had already been provided for light-duty CMVs with certain VINs, the agency anticipates that minimal, if any, additional training would be required. The inspectors would only need to refer to a reference card listing those grandfathered VINs. To the extent that States incur costs due to implementation of this proposal, they will be minimal and covered under the existing MCSAP grant program.

List of Subjects in 49 CFR Part 393

Highway and roads, Motor carriers, Motor vehicle equipment, Motor vehicle safety.

In consideration of the foregoing, the FMCSA amends title 49 CFR, chapter III, subchapter B, part 393 as follows:

PART 393—[AMENDED]

1. The authority citation for part 393 continues to read as follows:

Authority: Sec. 1041(b) of Pub. L. 102-240, 105 Stat. 1914; 49 U.S.C. 31136 and 31502; and 49 CFR 1.73.

2. Section 393.67 is amended by adding new paragraphs (a)(7) and (f)(4), and revising paragraph (c)(7) to read as follows:

§ 393.67 Liquid Fuel Tanks.

(a) * * *

(7) Motor vehicles that meet the fuel system integrity requirements of 49 CFR 571.301 are exempt from the requirements of this subpart, as they apply to the vehicle's fueling system.

* * * * *

(c) * * *

(7) Fill pipe. (i) Each fill pipe must be designed and constructed to minimize the risk of fuel spillage during fueling operations and when the vehicle is involved in a crash.

(ii) For diesel-fueled vehicles, the fill pipe and vents of a fuel tank having a capacity of more than 94.75 L (25 gallons) of fuel must permit filling the tank with fuel at a rate of at least 75.8 L/m (20 gallons per minute) without fuel spillage.

(iii) For gasoline- and methanol-fueled vehicles with a GVWR of 3,744 kg (8,500 pounds) or less, the vehicle must permit filling the tank with fuel dispensed at the applicable fill rate required by the regulations of the Environmental Protection Agency under 40 CFR 80.22.

(iv) For gasoline- and methanol-fueled vehicles with a GVWR of 14,000 pounds (6,400 kg) or less, the vehicle must comply with the applicable fuel-spitback prevention and onboard refueling vapor recovery regulations of the Environmental Protection Agency under 40 CFR part 86.

(v) Each fill pipe must be fitted with a cap that can be fastened securely over the opening in the fill pipe. Screw threads or a bayonet-type point are methods of conforming to the requirements of paragraph (c) of this section.

* * * * *

(f) * * *

(4) Exception. The following previously exempted vehicles are not required to carry the certification and marking specified in paragraphs (f)(1) through (3) of this section:

(i) Ford vehicles with GVWR over 10,000 pounds identified as follows: The vehicle identification numbers (VINs) contain A, K, L, M, N, W, or X in the fourth position.

(ii) GM G-Vans (Chevrolet Express and GMC Savanna) and full-sized C/K trucks (Chevrolet Silverado and GMC Sierra) with GVWR over 10,000 pounds identified as follows: The VINs contain either a “J” or a “K” in the fourth position. In addition, the seventh position of the VINs on the G-Van will contain a “1.”

Issued on: May 26, 2004.
Annette M. Sandberg,
Administrator.

[FR Doc. 04-12498 Filed 6-2-04; 8:45 am]

BILLING CODE 4910-EX-P